DEPARTMENT OF COMMERCE

National Oceanic and Atmospheric Administration

Proposed Information Collection; Comment Request; Marine Recreational Fisheries Statistics Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 18, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Rob Andrews, NOAA, National Marine Fisheries Service, Fisheries Statistics Division, Phone: (301) 713-2328 or Rob.Andrews@noaa.gov.

SUPPLEMENTARY INFORMATION:

I. Abstract

This request is for a revision of a current information collection.

Marine recreational anglers are surveyed for catch and effort data, fish biology data, and angler socioeconomic characteristics. These data are required to carry out provisions of the Magnuson-Stevens Fishery Conservation and Management Act (16 U.S.C. 1801 et seq.), as amended, regarding conservation and management of fishery resources.

Marine recreational fishing catch and effort data are currently collected through a combination of telephone surveys and on-site intercept surveys with recreational anglers. Recent amendments to the Magnuson-Stevens Fishery Conservation and Management Act (MSA) require the development of an improved data collection program for recreational fisheries. To meet the requirements of MSA, NOAA Fisheries is developing pilot studies to test alternative approaches for surveying recreational anglers. Studies will test the effectiveness of alternative sample frames and data collection methods for contacting anglers and collecting recreational fishing data. The goal of these studies is to develop more efficient and accurate methods for estimating marine recreational fishing catch and effort.

II. Method of Collection

Information will be collected through telephone and mail interviews.

III. Data

OMB Control Number: 0648-0052.

Form Number: None.

Type of Review: Regular submission (revision of a current information collection).

Affected Public: Individuals or households.

Estimated Number of Respondents: 970,105 (44,524 net increase).

Estimated Time per Response: 5 minutes for mail survey screening interviews, 6 minutes for telephone surveys of anglers, and 10 minutes for mail surveys of anglers.

Estimated Total Annual Burden Hours: 55,834 (6,194 net increase).

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 11, 2011.
Gwellnar Banks,
Management Analyst, Office of the Chief Information Officer.

[FR Doc. 2011-11961 Filed 5-16-11; 8:45 am]

BILLING CODE 3510-22-P